DEPARTMENT OF ENERGY

Western Area Power Administration

Record of Decision for the Energy Planning and Management Program; Integrated Resource Planning Approval Criteria

AGENCY: Western Area Power Administration, DOE.

ACTION: Record of Decision

SUMMARY: Western Area Power Administration (Western) completed a Final Environmental Impact Statement (EIS), DOE/EIS-0182, on its Energy Planning and Management Program (EPAMP); and a Supplement Analysis, DOE/EIS-0182-SA-1, on the Integrated Resource Plan (IRP) program. Western is publishing this Record of Decision (ROD) to adopt revisions to its current regulations that require customers to prepare IRPs (10 CFR part 905). These revisions allow customers more alternatives in meeting the IRP requirements.

DATES: This ROD is effective March 28, 2000.

FOR FURTHER INFORMATION CONTACT: Mr. Simmons Buntin, Energy Services Specialist, Western Area Power Administration, P.O. Box 281213, Lakewood, CO 80228-8213, telephone (720) 962-7419, fax (720) 962-7427, e-mail buntin@wapa.gov.

SUPPLEMENTARY INFORMATION: Section 114 of the Energy Policy Act of 1992 (EPAct), Public Law 102-486, requires integrated resource planning by Western's customers. Western implemented EPAct through completion of the EPAMP in October 1995. The EPAMP was published in the Code of Federal Regulations at 10 CFR part 905. The EPAMP was addressed in a final EIS that was distributed to the public on June 27, 1995. The Environmental Protection Agency notice of availability was published on July 21, 1995 (60 FR 37640). The final EIS addressed requirements for full IRPs and other planning options for small customers. Western issued its ROD for EPAMP on September 21, 1995 (60 FR 53181), selecting the preferred alternative as described in the final EIS. Essential elements of Western's preferred alternative required IRPs for many of Western's long-term customers, and a Small Customer Plan option for those customers with total energy sales or usage of 25 gigawatthours (GWh) or less, which are not members of either a joint action agency or a generation and transmission cooperative with power supply responsibility, and which have limited economic, managerial, and resource capabilities. Other alternatives considered are addressed in Western's September 21, 1995, ROD on EPAMP.

Following EPAct requirements, Western's Administrator initiated a public process to review Western's IRP regulations on November 17, 1999 (64 FR 62604). The Administrator is authorized to revise Western's criteria for approving IRPs “to reflect changes, if any, in technology, needs, or other developments.”

In response to this public process, Western proposed revised IRP Criteria, revisions to the Small Customer Plan, and two new options that will be promulgated with the new regulation. Western is adopting an approach that features customer choice and flexibility, and reflects the transition of the electric utility industry. Customers can choose to continue preparing IRPs, or can adopt approaches that are emerging in lieu of IRP requirements. These new approaches include compliance with a defined level of investment in demand-side management and/or renewable energy, including compliance with a public benefits program, or compliance with mandated energy efficiency and/or renewable energy activities and related reporting requirements. The revisions were not addressed in the EIS for EPAMP. It was unclear whether or not to prepare an EIS supplement for the revisions, so Western prepared a Supplement Analysis (DOE/EIS-0182-SA-1) addressing the changes pursuant to 10 CFR part 1021.314. Based on the Supplement Analysis, Western determined that no further National Environmental Policy Act documentation is required for the revisions to the IRP regulations. Therefore, Western has decided to promulgate new IRP regulations. The Supplement Analysis is available upon request.

No Mitigation Action Plan will be prepared for the new IRP regulations, as the proposal involves no construction, and no mitigation was identified as necessary to implement the new regulations.

Dated: March 13, 2000.
Michael S. Hacskaylo,
Administrator.

[FR Doc. 00-7582 Filed 3-27-00; 8:45 am]

BILLING CODE 6450-01-P